NATIONAL FOUNDATION ON THE ARTS AND THE HUMANITIES

Meetings of Humanities Panel

AGENCY: National Endowment for the Humanities.

ACTION: Notice of meetings.

SUMMARY: The National Endowment for the Humanities will hold twenty-eight meetings of the Humanities Panel, a federal advisory committee, during July, 2017. The purpose of the meetings is for panel review, discussion, evaluation, and recommendation of applications for financial assistance under the National Foundation on the Arts and Humanities Act of 1965.

DATES: See Supplementary Information section for meeting dates. The meetings will open at 8:30 a.m. and will adjourn by 5:00 p.m. on the dates specified below.

ADDRESSES: The meetings will be held at Constitution Center at 400 7th Street SW., Washington, DC 20506, unless otherwise indicated.

FOR FURTHER INFORMATION CONTACT: Elizabeth Voyatzis, Committee Management Officer, 400 7th Street SW., Room 4060, Washington, DC 20506; (202) 606-8322; evoyatzis@neh.gov.

SUPPLEMENTARY INFORMATION: Pursuant to section 10(a)(2) of the Federal Advisory Committee Act (5 U.S.C. App.), notice is hereby given of the following meetings:

1. Date: July 10, 2017. This meeting will discuss applications on the subject of British Literature, for the Fellowships grant program, submitted to the Division of Research Programs.

2. Date: July 10, 2017. This meeting will discuss applications on the subject of British Literature, for the Fellowships grant program, submitted to the Division of Research Programs.

3. Date: July 10, 2017. This meeting will discuss applications on the subject of Asian Studies, for the Fellowships grant program, submitted to the Division of Research Programs.

4. Date: July 11, 2017. This meeting will discuss applications on the subjects of European Literature and Studies, for the Fellowships grant program, submitted to the Division of Research Programs.

5. Date: July 11, 2017. This meeting will discuss applications on the subject of American Literature, for the Fellowships grant program, submitted to the Division of Research Programs.

6. Date: July 11, 2017. This meeting will discuss applications for Humanities Access Grants, submitted to the Office of Challenge Grants.

7. Date: July 13, 2017. This meeting will discuss applications for Humanities Access Grants, submitted to the Office of Challenge Grants.

8. Date: July 17, 2017. This meeting will discuss applications on the subject of Middle Eastern Studies, for the Fellowships grant program, submitted to the Division of Research Programs.

9. Date: July 18, 2017. This meeting will discuss applications on the subject of American Studies, for the Fellowships grant program, submitted to the Division of Research Programs.

10. Date: July 18, 2017. This meeting will discuss applications on the subject of Latin American Studies, for the Fellowships grant program, submitted to the Division of Research Programs.

11. Date: July 18, 2017. This meeting will discuss applications on the subjects of Cinema, Theater, and Dance Studies, for the Fellowships grant program, submitted to the Division of Research Programs.

12. Date: July 19, 2017. This meeting will discuss applications on the subject of Art History, for the Fellowships grant program, submitted to the Division of Research Programs.

13. Date: July 19, 2017. This meeting will discuss applications on the subject of Music Studies, for the Fellowships grant program, submitted to the Division of Research Programs.

14. Date: July 19, 2017. This meeting will discuss applications on the subjects of Comparative Literature and Literary Theory, for the Fellowships grant program, submitted to the Division of Research Programs.

15. Date: July 20, 2017. This meeting will discuss applications on the subject of Philosophy, for the Fellowships grant program, submitted to the Division of Research Programs.

16. Date: July 20, 2017. This meeting will discuss applications on the subject of Philosophy, for the Fellowships grant program, submitted to the Division of Research Programs.

17. Date: July 24, 2017. This meeting will discuss applications for Fellowships for Advanced Social Science Research on Japan, submitted to the Division of Research Programs.

18. Date: July 25, 2017. This meeting will discuss applications on the subject of Religious Studies, for the Fellowships grant program, submitted to the Division of Research Programs.

19. Date: July 25, 2017. This meeting will discuss applications on the subjects of African and Black Atlantic Studies, for the Fellowships grant program, submitted to the Division of Research Programs.

20. Date: July 26, 2017. This meeting will discuss applications on the subject of American History, for the Fellowships grant program, submitted to the Division of Research Programs.

21. Date: July 26, 2017. This meeting will discuss applications on the subject of American History, for the Fellowships grant program, submitted to the Division of Research Programs.

22. Date: July 26, 2017. This meeting will discuss applications on the subject of American History, for the Fellowships grant program, submitted to the Division of Research Programs.

23. Date: July 27, 2017. This meeting will discuss applications on the subject of European History, for the Fellowships grant program, submitted to the Division of Research Programs.

24. Date: July 27, 2017. This meeting will discuss applications on the subject of European History, for the Fellowships grant program, submitted to the Division of Research Programs.

25. Date: July 27, 2017. This meeting will discuss applications on the subject of American History, for the Fellowships grant program, submitted to the Division of Research Programs.

26. Date: July 27, 2017. This meeting will discuss applications for Humanities Access Grants, submitted to the Office of Challenge Grants.

27. Date: July 31, 2017. This meeting will discuss applications on the subject of Asian Studies, for the Fellowships grant program, submitted to the Division of Research Programs.

28. Date: July 31, 2017. This meeting will discuss applications on the subjects of Communication, Media, and Rhetoric, for the Fellowships grant program, submitted to the Division of Research Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: June 7, 2017.
Elizabeth Voyatzis,
Committee Management Officer.

[FR Doc. 2017-12119 Filed 6-9-17; 8:45 am]

BILLING CODE 7536-01-P